DEPARTMENT OF HOMELAND SECURITY

48 CFR Parts 3015, 3016 and 3052

[Docket No. DHS-2009-005]

RIN 1601-AA43

Homeland Security Acquisition Regulation; Limitations on Subcontracting in Emergency Acquisitions; Withdrawal

AGENCY: Office of the Chief Procurement Officer, Department of Homeland Security (DHS).

ACTION: Proposed rule; withdrawal.

SUMMARY: DHS is withdrawing a proposed rule titled Limitations on Subcontracting in Emergency Acquisitions (HSAR Case 2009-005) and providing notice of its cancellation. The notice of proposed rulemaking proposed to amend the Homeland Security Acquisition Regulation (HSAR) to implement Limitations on Tiering of Subcontractors limiting the use of subcontractors on cost-reimbursement type contracts entered into by the Department to facilitate the response to or recovery from a natural disaster or act of terrorism or other man-made disaster.

DATES: The proposed rule published on June 9, 2010 (75 FR 32723) is withdrawn effective September 7, 2023.

ADDRESSES: Mail: Department of Homeland Security, Office of the Chief Procurement Officer, Acquisition Policy and Legislation, ATTN: Catherine Benavides, 245 Murray Drive, Bldg. 410 (RDS), Washington, DC 20528.

FOR FURTHER INFORMATION CONTACT: Ms. Catherine Benavides, Procurement Analyst, DHS, Office of the Chief Procurement Officer, Acquisition Policy and Legislation at (202) 897-8301 or email HSAR@hq.dhs.gov. When using email, include HSAR Case 2009-005 in the “Subject” line.

SUPPLEMENTARY INFORMATION: On June 9, 2010 the Department of Homeland Security (DHS) proposed to amend the Department of Homeland Security Acquisition Regulation (HSAR), 48 CFR chapters 15, 16 and 52 to provide notice to implement Public Law 109-295 Post-Katrina Emergency Management Reform Act (PKERMA), title VI, section 692, Limitations on Tiering of Subcontractors. Subsequently, title VIII, Section 866 of the Duncan Hunter National Defense Authorization Act for Fiscal Year 2009 resulted in government-wide changes to the Federal Acquisition Regulation to prevent excessive subcontracting, making Section 692 unnecessary.

DHS is withdrawing this proposed rule because Public Law 117-253, effective December 20, 2022, repealed Sec. 692 of the Post-Katrina Reform Act of 2006. Thus, DHS will not take any further action on this proposal.

Paul Courtney,
Chief Procurement Officer, Department of Homeland Security.

[FR Doc. 2023-19316 Filed 9-6-23; 8:45 am]

BILLING CODE 4410-10-P